DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 21, 2010 through June 25, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Under Section 222(a)(2)(B), all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,851 | General Motors Corporation, Milford Proving Grounds, Leased Workers Adroit Software & Consulting, etc. | Milford, MI | October 20, 2008.
73,098 | EPS D/B/A Valspar Coatings, Architectural Division, Valspar Corporation | High Point, NC | November 24, 2008.
73,169 | MIC Group, LLC, J. B. Poindexter and Company, Inc | Brenham, TX | November 28, 2008.
73,242 | M.A. Moslow & Brothers, Inc | Buffalo, NY | January 11, 2009.
73,299 | UK West Inc. | Martinsville, VA | January 8, 2009.
73,344 | Universal Stainless and Alloy Products Inc | Bridgeville, PA | January 18, 2009.
73,428 | Murata Power Solutions, Leased Workers of Alpha Personnel | Mansfield, MA | January 29, 2009.
73,505 | Power Partners, Inc., Leased Workers from Think Energy Group | Athens, GA | February 11, 2009.
73,765 | Wooden Creations, Inc | Martinsville, VA | December 30, 2008.
73,777 | Accurate Machine & Tool LLC, Sunbelt Diversified, LLC, Leased Workers Aerotek and Skill Force LLC | Raleigh, NC | March 23, 2009.
73,781 | Itasca-Bemidji, Inc., Fargo Assembly Company | Bemidji, MN | March 22, 2009.
73,836 | Domtar Paper Company, Columbus Mill, Leased Workers from Waters Truck & Tractor and Wise Staffing | Columbus, MS | March 30, 2009.
73,980 | New Era Cap Company, Inc., Jackson Division, Long's Human Resources Services | Jackson, AL | April 19, 2009.
73,981 | New Era Cap Company, Inc., Demopolis Division | Demopolis, AL | April 19, 2009.
74,039 | Berwick Offray, LLC, Leased Workers from Onesource Staffing | Berwick, PA | April 30, 2009.

The following certifications have been issued. The requirements of Section 222(a)(2)(B) (shift in production or services) of the Trade Act have been met.

TA-W No. | Subject firm | Location | Impact date
72,489 | Northern Engraving Corporation, Luxco Division, Northern Engraving Holdings Company | La Crosse, WI | October 1, 2008.
73,176 | Valeo Electrical Systems, Inc., Wiper Systems Division | Troy, MI | December 8, 2008.
73,198 | West, Thomson Reuters Business, Leased Workers of Adecco | Eagan, MN | December 30, 2008.
73,231 | Quaker Chemical Corporation, Leased Workers from Advantage Staffing | Detroit, MI | December 16, 2008.
73,370 | Thomson Reuters Legal, Legal Editorial Operations, Cleveland Office | Independence, OH | January 26, 2009.
73,396 | Ingersoll-Rand, Security Technologies Division | Bristol, CT | January 26, 2009.
73,447 | Swiss Re America Holding Corporation, Cash Operations Unit of the Finance Department | Overland Park, KS | February 3, 2009.
73,583 | JP Morgan Chase And Company, Central Technology and Operations Division | Columbus, OH | February 12, 2009.
73,585 | Shop Vac Cantor Corporation, Canton Division, Shop Vac Corp. | Canton, PA | February 26, 2009.
73,681 | Premier Trim, LLC and Spectrum Trim, LLC, DBA Spectrum Grant De Mexico, Manufacturing Div., Express Employment, etc | Brownsville, TX | March 10, 2009.
73,810 | Gaming Partners International USA, Inc., Gaming Partners International Corporation | Las Vegas, NV | March 25, 2009.
73,845 | Ryder Integrated Logistics | Findlay, OH | March 5, 2009.
73,845A | Ryder Integrated Logistics | Bowling Green, OH | March 5, 2009.
73,922 | Land and Mapping Services, LLC | Clearfield, PA | April 6, 2009.
73,954 | Honeywell Process Solutions, Honeywell Automation & Controls Solution, Honeywell International, Manpower | Phoenix, AZ | April 15, 2009.
74,022 | WestPoint Home, Inc., West Point Office | West Point, GA | May 21, 2010.
74,023 | WestPoint Home, Inc., Clemson Centre | Clemson, SC | May 21, 2010.
74,041 | Eldec Corporation, Subsidiary of Crane Company, Volt Management Corp., Protinge | Lynnwood, WA | May 4, 2009.
74,050 | Giddings and Lewis Machine Tools, LLC, Leased Wkrs Spies Painting & Decorating, Manowske Welding Corp, etc | Fond du Lac, WI | April 28, 2009.
74,053 | Faurecia Exhaust Systems, NAO Division | Lordstown, OH | May 7, 2009.
74,073 | Seagate Technology, LLC, Fremont Media Research Center, Leased Workers Spherion, etc | Fremont, CA | May 10, 2009.
74,078 | Scapa North America, Leased Workers from JNT Services | Carlstadt, NJ | May 12, 2009.
74,123 | Advanstar Communications, Inc., Media Operations Division | Duluth, MN | May 17, 2009.
74,131 | West, Thomson Reuters Company, Legal Editorial Operations | Rochester, NY | May 20, 2009.
74,148 | PBR Knoxville, LLC, AF Division, Leased Workers of TSI, Kennametal, Hagemeyer, Duobis Chemicals | Knoxville, TN | May 21, 2009.
74,154 | Staedtler, Inc | Chatsworth, CA | May 27, 2009.
74,195 | Caps Visual Communications, LLC, Black Dot Group, Formerly Caps Group Acquisition, LLC | Chicago, IL | July 31, 2010.
74,218 | WestPoint Home, Inc., New York Corporate Sales Office | New York, NY | July 1, 2010.
74,252 | Honeywell International, Inc., Aerospace Div., Purchasing Dept., Leased Workers Manpower International | Phoenix, AZ | June 10, 2009.

The following certifications have been issued. The requirements of Section 222(c) (supplier to a firm whose workers are certified eligible to apply for TAA) of the Trade Act have been met.

TA-W No. | Subject firm | Location | Impact date
73,071 | Arvin Meritor, Incorporated, Leased Workers from QPS Companies | Belvidere, IL | December 9, 2008.
73,850 | Ryder Integrated Logistics, Leased Workers From CPC Logistics | Carson, CA | March 22, 2009.
73,869 | iLevel by Weyerhaeuser, iLevel Marketing and Sales, Weyerhaeuser Company | Greenwood Village, CO | April 6, 2009.
74,176 | General Motors Powertrain Engine-Livonia, Previously know as General Motors Corporation | Livonia, MI | June 1, 2009.
74,211 | Great Lakes Coating, Inc | Mt. Pleasant, MI | June 8, 2009.

The following certifications have been issued. The requirements of Section 222(c) (downstream producer for a firm whose workers are certified eligible to apply for TAA) of the Trade Act have been met.

TA-W No. | Subject firm | Location | Impact date
73,381 | Montana Rail Link, Inc | Missoula, MT | January 26, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
73,649 | Specialized Transportation for Outpatient Services, Inc. | Titusville, FL. |
73,918 | HSBC Card Services Inc., Credit Operations, CDV Group | Tigard, OR. |
73,978 | Eastman Kodak Company, Home Based Field Service Engineers | Vancouver, WA. |

The investigation revealed that the criteria under paragraphs (a)(2)(A) (increased imports) and (a)(2)(B) (shift in production or services to a foreign country) of section 222 have not been met.

TA-W No. | Subject firm | Location | Impact date
72,364 | Chemcut Holdings, LLC | State College, PA |
72,552 | Courtesy Chevrolet | Bastrop, LA. |
72,633 | H. B. Fuller Company | Blue Ash, OH. |
73,024 | Kent Lincoln Mercury, Automotive Repair Division | Kent, OH. |
73,170 | SuperMedia, LLC, Formerly Idearc Media, LLC, SuperMedia Information Services, LLC | Troy, NY. |
73,311 | Saturn of Elmhurst | Elmhurst, IL. |
73,485 | Bank of America, Enterprise Domain Systems Support Division; Bank of America Corporation | Simi Valley, CA. |
73,526 | Advanced Recycling Equipment | St. Marys, PA. |
73,530 | Google Inc., Engineering Operations, Leased Workers from Astreya Partners | Mountain View, CA. |
73,695 | Woodland Mills Corporation | Mill Spring, NC. |
73,772 | J.C. Penney Company, Inc. | Waterford, MI. | March 3, 2010.
73,831 | StarTek USA, Inc., AT&T Procurement Group | Greeley, CO. |
73,963 | Dentek.Com, Inc., D/B/A Nsequence Center for Advanced Dentistry | Reno, NV. |
74,002 | New Era Cap Company, Inc., Mobile Division | Mobile, AL. |
74,084 | Tenaris Global Services (USA) Corporation | Houston, TX. |
74,220 | Transitional Living Services, Inc., Starting Over Services Crisis Center | Racine, WI. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioning groups of workers are covered by active certifications. Consequently, further investigation in these cases would serve no purpose since the petitioning group of workers cannot be covered by more than one certification at a time.

TA-W No. | Subject firm | Location | Impact date
73,393 | Hewlett-Packard Company, Division of Corporate Administration and Shared Services | Marlboro, MA. |
73,736 | Toyota Engineering and Manufacturing North America Team | Fremont, CA. |
73,766 | JT Sports, LLC | Neosho, MO. |
74,024 | Hewlett-Packard Company, Division of Corporate Administration & Shared Services, Off-Site Workers | Omaha, NE. |

I hereby certify that the aforementioned determinations were issued during the period of June 21, 2010 through June 25, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: June 30, 2010.
Elliott S. Kushner,
Certifying Officer, Division of Trade Adjustment Assistance.

[FR Doc. 2010-16415 Filed 7-6-10; 8:45 am]

BILLING CODE 4510-FN-P